DEPARTMENT OF TRANSPORTATION

Office of the Secretary

Additional Guidance on Airfare/Air Tour Price Advertisements; Correction

AGENCY: Office of the Secretary, Department of Transportation.

ACTION: Notice; correction.

SUMMARY: The Department published a notice entitled “Additional Guidance on Airfare/Air Tour Price Advertisements,” in the Federal Register of February 27, 2012; the notice contained an incorrect address for the Department.

FOR FURTHER INFORMATION CONTACT: Nicholas Lowry, Attorney, Office of Aviation Enforcement and Proceedings (C-70), 1200 New Jersey Ave. SE., Washington, DC 20590, (202) 366-9349.

Correction

In the Federal Register of February 27, 2012, in Vol. 38, at 77 FR 11618, on page 11619, in the last paragraph, correct the address of the Office of Aviation Enforcement and Proceedings (C-70) to read: 1200 New Jersey Ave. SE., Washington, DC 20590. An electronic version of this document is available at http://www.regulations.gov.

Dated: February 29, 2012.
Samuel Podberesky,
Assistant General Counsel for Aviation Enforcement and Proceedings.

[FR Doc. 2012-5352 Filed 3-5-12; 8:45 am]

BILLING CODE 4910-9X-P